DEPARTMENT OF TRANSPORTATION

Federal Aviation Administration

14 CFR Part 39

[Docket No. 2001-NM-266-AD; Amendment 39-13388; AD 2003-25-05]

RIN 2120-AA64

Airworthiness Directives; Bombardier Model DHC-8-102, -103, -106, -201, -202, -301, -311, and -315 Airplanes

Correction

In rule document 03-31058 beginning on page 70428 in the issue of Thursday, December 18, 2003 make the following correction:

§39.13 [Corrected]

On page 70429, in §39.13, in the second column, ÿ7Eunder paragragh (a)(2), in the last line, “exceed 50 flight hours” should read, “exceed 500 flight hours ”.

[FR Doc. C3-31058 Filed 1-23-04; 8:45 am]

BILLING CODE 1505-01-D